DEPARTMENT OF TRANSPORTATION

Coast Guard

[USCG-2002-13582]

National Preparedness for Response Exercise Program (PREP)

AGENCY: Coast Guard, DOT.

ACTION: Notice; request for public comments on PREP triennial exercise schedule for 2003, 2004, and 2005.

SUMMARY: The Coast Guard, the Research and Special Programs Administration, the Environmental Protection Agency and the Minerals Management Service, in concert with representatives from various State governments, industry, environmental interest groups, and the general public, developed the Preparedness for Response Exercise Program (PREP) Guidelines to reflect the consensus agreement of the entire oil spill response community. This notice announces the PREP triennial cycle, 2003-2005, requests comments from the public, and requests industry participants to volunteer for scheduled PREP Area exercises.

DATES: Comments and related material must reach the Docket Management Facility on or before December 30, 2002.

ADDRESSES: To make sure that your comments and related material are not entered more than once in the docket, please submit them by only one of the following means:

(1) By mail to the Docket Management Facility, (USCG-2002-13582), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this notice, or need general information regarding the PREP Program and the schedule, contact Mr. Robert Pond, Office of Response, Plans and Preparedness Division (G-MOR-2), U.S. Coast Guard Headquarters, telephone 202-267-6603, fax 202-267-4065 or e-mail rpond@comdt.uscg.mil. If you have questions on viewing or submitting material to the docket, call Ms. Dorothy Beard, Chief, Dockets, Department of Transportation, telephone 202-366-5149.

SUPPLEMENTARY INFORMATION: The PREP Area exercise schedule and exercise design manuals are available on the Internet at http://www.uscg.mil/hq/nsfcc/nsfweb/. To obtain a hard copy of the exercise design manual, contact Ms. Melanie Barber at the Research and Special Programs Administration, Office of Pipeline Safety, at 202-366-4560. The 2002 PREP Guidelines booklet is available at no cost on the Internet at http://www.uscg.mil/hq/nsfcc/nsfweb/ or by writing or faxing the TASC DEPT Warehouse, 33141Q 75th Avenue, Landover, MD 20785, facsimile: 301-386-5394. The stock number of the manual is USCG-X0241. Please indicate the quantity when ordering. Quantities are limited to 10 per order.

Request for Comments

We encourage you to participate by submitting comments and related material. If you do so, please include your name and address, identify the docket number [USCG-2002-13582], indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. We may change this triennial exercise schedule in view of them.

Background and Purpose

In 1994, the Coast Guard (USCG) and the Research and Special Programs Administration (RSPA) of the Department of Transportation, the U.S. Environmental Protection Agency (U.S. EPA), and the Minerals Management Service (MMS) of the Department of Interior, coordinated the development of the National Preparedness for Response Exercise Program (PREP) Guidelines to provide guidelines for compliance with the Oil Pollution Act of 1990 (OPA 90) pollution response exercise requirements (33 U.S.C. 1321(j)). The guiding principles for PREP distinguish between internal and external exercises. Internal exercises are conducted within the plan holder's organization. External exercises extend beyond the plan holder's organization to involve other members of the response community. External exercises are separated into two categories: (1) Area exercises, and (2) Government-initiated unannounced exercises. These exercises are designed to evaluate the entire response mechanism in a given area to ensure adequate pollution response preparedness.

Since 1994, the USCG, U.S. EPA, MMS, and RSPA's Office of Pipeline Safety (OPS) have published a triennial schedule of Area exercises. In short, the Area exercises involve the entire response community (Federal, State, local, and industry participants) and therefore, require more extensive planning than other oil spill response exercises. The PREP Guidelines describe all of these exercises in more detail. This notice announces the next triennial schedule of Area exercises. If a company wants to volunteer for an Area exercise, a company representative may call either the Coast Guard or EPA On-Scene Coordinator (OSC) where the exercise is scheduled.

The following table is the PREP schedule for calendar years 2003, 2004, and 2005.

Prep Schedule—Government-Led Area Exercises
Area | Agency | Date/Qtr¹ | Participant
Calendar Year 2003
Florida Panhandle (MSO Mobile) | CG | 1
SE Alaska (MSO Juneau) | CG | 2
Philadelphia, PA (MSO Philadelphia) | CG | 3
Region II RCP or Caribbean (EPA Region II) | EPA | 3
Portland, ME (MSO Portland) | CG | 4
Buffalo, NY (MSO Buffalo) | CG | 4
Calendar Year 2004
SF/LA/LB/San Diego (MSO San Francisco, MSO Los Angeles/Long Beach & MSO San Diego) | CG SONS ² | 1
Prince William Sound (MSO Valdez) | CG | 2
Charleston, SC (MSO Charleston) | CG | 2
South Texas Coast (MSO Corpus Christi) | CG | 3
Duluth-Superior (MSO Duluth) | CG | 3
Guam (MSO Guam) | CG | 4
Region I RCP (EPA Region I) | EPA | 4
Calendar Year 2005
Virginia Coastal (MSO Hampton Roads) | CG | 2
Houston-Galveston (MSO Houston) | CG | 2
Alabama (MSO Mobile) | CG | 3
Region V RCP (EPA Region V) | EPA | 3
Providence (MSO Providence) | CG | 4
Western Alaska (MSO Anchorage) | CG | 4
¹ Quarters: 1 (January-March); 2 (April-June); 3 (July-September); 4 (October-December).
² SONS: Spill of National Significance.

Prep Schedule—Industry-Led Area Exercises
Area | Date/Qtr¹ | Participant
Calendar Year 2003
Region IX RCP (EPA Region IX) | 1
Cleveland, OH (MSO Cleveland) | 1
Detroit (MSO Detroit) | 2
Jacksonville (MSO Jacksonville) | 2
New Orleans (MSO New Orleans) | 2
Northwest Area—Portland (MSO Portland) | 2
Region III RCP (EPA Region III) | 3
North Coast (CA) (MSO San Francisco) | 3
Caribbean Area (MSO San Juan) | 3
Western Lake Erie (MSO Toledo) | 3
Region VI RCP (EPA Region VI) | 4
Northern Marianas—Saipan (MSO Saipan) | 4
Calendar Year 2004
Region IV RCP (EPA Region IV) | 1
New York, NY (Activities NY) | 1
Maryland Coastal (MSO Baltimore) | 2
Chicago, IL (MSO Chicago) | 2
Morgan City (MSO Morgan City) | 2
Eastern Wisconsin (MSO Milwaukee) | 3
Long Island Sound (MSO Long Island) | 3
Northwest—Puget Sound (MSO Puget Sound) | 3
Savannah (MSO Savannah) | 3
Region VII RCP (EPA Region VII) | 4
Calendar Year 2005
Region VIII (EPA Region VIII) | 1
Boston (MSO Boston) | 1
Buffalo (MSO Buffalo) | 2
Hawaii Islands (MSO Honolulu) | 2
South LA/LB | 2
South Florida (MSO Miami) | 2
S. North Carolina (MSO Wilmington) | 3
Region X or EPA Alaska (EPA Region X) | 3
SW LA/SE Texas (MSO Port Arthur) | 3
San Diego (MSO San Diego) | 3
Tampa (MSO Tampa) | 4
Sault Ste. Marie (MSO Sault Ste. Marie) | 4
¹ Quarters: 1 (January-March); 2 (April-June); 3 (July-September); 4 (October-December).

Dated: October 15, 2002.
Howard L. Hime,
Acting Director of Standards, Marine Safety, Security & Environmental Protection.

[FR Doc. 02-27610 Filed 10-29-02; 8:45 am]

BILLING CODE 4910-15-P